DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On December 15, 2021, OFAC determined that the property and interests in property subject to U.S. jurisdiction of the following persons are blocked under the relevant sanctions authority listed below.

BILLING CODE 4810-AL-P

BILLING CODE 4810-AL-C

Additionally, on December 15, 2021, OFAC determined that the property and interests in property subject to U.S. jurisdiction of the following persons are blocked pursuant to the relevant sanctions authority listed below. The property and interests in property of these persons also continue to be also be blocked pursuant to the Foreign Narcotics Kingpin Designation Act and/or Executive Order 13581 of July 25, 2011, “Blocking Property of Transnational Criminal Organizations,” and they will appear on the SDN List as follows:

Individuals

1. GUZMAN LOPEZ, Ovidio (a.k.a. “El Raton”; a.k.a. “Raton Nuevo”), Mexico; DOB 29 Mar 1990; POB Culiacan, Sinaloa, Mexico; nationality Mexico; Gender Male; C.U.R.P. GULO900329HSLZPV09 (Mexico) (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

2. GUZMAN SALAZAR, Ivan Archivaldo (a.k.a. “Chapito”), Mexico; DOB 1980; POB Sinaloa, Mexico; nationality Mexico; Gender Male (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

3. GUZMAN SALAZAR, Jesus Alfredo (a.k.a. “Alfredillo”; a.k.a. “JAGS”), Mexico; DOB 17 May 1986; POB Zapopan, Jalisco, Mexico; nationality Mexico; Gender Male; C.U.R.P. GUSJ860517HJCZLS06 (Mexico) (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

4. MEZA FLORES, Fausto Isidro (a.k.a. “ISIDRO, Chapito”; a.k.a. “ISIDRO, Chapo”), Sinaloa, Mexico; DOB 19 Jun 1982; POB Navojoa, Sonora, Mexico; nationality Mexico; Gender Male; C.U.R.P. MEFF820619HSRZLS08 (Mexico) (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

5. OSEGUERA CERVANTES, Nemesio (a.k.a. OSEGUERA CERVANTES, Ruben; a.k.a. “Mencho”), Mexico; DOB 17 Jul 1966; alt. DOB 17 Jul 1964; POB Naranjo de Chila, Aguililla, Michoacan, Mexico; nationality Mexico; Gender Male (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

6. TREVINO MORALES, Miguel (Latin: TREVIÑO MORALES, Miguel) (a.k.a. TREVINO MORALES, Miguel Angel; a.k.a. “40”), Calle Veracruz 825, Nuevo Laredo, Tamaulipas, Mexico; Calle Mina No. 6111, Nuevo Laredo, Tamaulipas, Mexico; Calle Nayarit 3404, en la esquina de Nayarit y Ocampo, Nuevo Laredo, Tamaulipas, Mexico; Calle 15 de Septiembre y Leandro Valle, Nuevo Laredo, Tamaulipas, Mexico; Avenida Tecnologico 17, entre Calle Pedro Perezo Ibarra y Fraccionamiento Tecnologica, Nuevo Laredo, Tamaulipas, Mexico; Amapola 3003, Col. Primavera, Nuevo Laredo, Tamaulipas, Mexico; Rancho Soledad, Anahuac, Nuevo Leon, Mexico; Rancho Rancherias, Anahuac, Nuevo Leon, Mexico; Reynosa, Tamaulipas, Mexico; DOB 28 Jun 1973; alt. DOB 18 Nov 1970; alt. DOB 25 Jan 1973; alt. DOB 15 Jul 1976; POB Nuevo Laredo, Tamaulipas, Mexico; alt. POB Tamaulipas, Mexico; nationality Mexico; citizen Mexico; Gender Male; R.F.C. TRMM730628 (Mexico) (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

7. TREVINO MORALES, Omar (Latin: TREVIÑO MORALES, Omar) (a.k.a. TREVINO MORALES, Alejandro; a.k.a. TREVINO MORALES, Omar Alejandro; a.k.a. TREVINO MORALES, Oscar Omar; a.k.a. “42”), Colonia Militar, Nuevo Laredo, Tamaulipas, Mexico; Reynosa, Tamaulipas, Mexico; Coahuila, Mexico; DOB 26 Jan 1974; POB Nuevo Laredo, Tamaulipas, Mexico; nationality Mexico; citizen Mexico; Gender Male (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

8. USUGA DAVID, Dairo Antonio (a.k.a. “OTONIEL”), Colombia; DOB 15 Sep 1971; POB Necocli, Antioquia, Colombia; nationality Colombia; citizen Colombia; Gender Male; Cedula No. 71980054 (Colombia) (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

9. ZAMBADA GARCIA, Ismael (a.k.a. HERNANDEZ GARCIA, Javier; a.k.a. LOPEZ LANDEROS, Geronimo; a.k.a. ZAMBADA GARCIA, Ismael Mario; a.k.a. ZAMBADA, El Mayo; a.k.a. “El Mayo”; a.k.a. “Mayo”), Mexico; DOB 1948; POB Sinaloa, Mexico; nationality Mexico; Gender Male (individual) [SDNTK] [ILLICIT-DRUGS-E.O.].

Sanctioned pursuant to section 1(a)(i) of the Order for having engaged in, or attempted to engage in, activities or transactions that have materially contributed to, or pose a significant risk of materially contributing to, the international proliferation of illicit drugs or their means of production.

Entities:

1. BELTRAN LEYVA ORGANIZATION (a.k.a. “BLO”), Mexico [SDNTK] [ILLICIT-DRUGS-E.O.].

Sanctioned pursuant to section 1(a)(i) of the Order for having engaged in, or attempted to engage in, activities or transactions that have materially contributed to, or pose a significant risk of materially contributing to, the international proliferation of illicit drugs or their means of production.

2. JUAREZ CARTEL (a.k.a. CARTEL DE JUAREZ; a.k.a. “CARRILLO FUENTES DRUG TRAFFICKING ORGANIZATION”; a.k.a. “LA LINEA”; a.k.a. “VCFO”), Mexico [SDNTK] [ILLICIT-DRUGS-E.O.].

Sanctioned pursuant to section 1(a)(i) of the Order for having engaged in, or attempted to engage in, activities or transactions that have materially contributed to, or pose a significant risk of materially contributing to, the international proliferation of illicit drugs or their means of production.

3. CARTEL DE JALISCO NUEVA GENERACION (a.k.a. CJNG; a.k.a. JALISCO NEW GENERATION CARTEL; a.k.a. NEW GENERATION CARTEL OF JALISCO), Mexico [SDNTK] [ILLICIT-DRUGS-E.O.].

Sanctioned pursuant to section 1(a)(i) of the Order for having engaged in, or attempted to engage in, activities or transactions that have materially contributed to, or pose a significant risk of materially contributing to, the international proliferation of illicit drugs or their means of production.

4. CLAN DEL GOLFO (a.k.a. BANDA CRIMINAL DE URABA; a.k.a. CLAN USUGA; a.k.a. GULF CLAN; a.k.a. LOS AUTODEFENSAS GAITANISTAS DE COLOMBIA; a.k.a. LOS URABENOS (Latin: LOS URABEÑOS)), Colombia [SDNTK] [ILLICIT-DRUGS-E.O.].

Sanctioned pursuant to section 1(a)(i) of the Order for having engaged in, or attempted to engage in, activities or transactions that have materially contributed to, or pose a significant risk of materially contributing to, the international proliferation of illicit drugs or their means of production.

5. GULF CARTEL (a.k.a. CARTEL DEL GOLFO; a.k.a. OSIEL CARDENAS-GUILLEN ORGANIZATION; a.k.a. “CDG”), Mexico [SDNTK] [ILLICIT-DRUGS-E.O.].

Sanctioned pursuant to section 1(a)(i) of the Order for having engaged in, or attempted to engage in, activities or transactions that have materially contributed to, or pose a significant risk of materially contributing to, the international proliferation of illicit drugs or their means of production.

6. LA FAMILIA MICHOACANA, Michoacan, Mexico; Guerrero, Mexico [SDNTK] [ILLICIT-DRUGS-E.O.].

Sanctioned pursuant to section 1(a)(i) of the Order for having engaged in, or attempted to engage in, activities or transactions that have materially contributed to, or pose a significant risk of materially contributing to, the international proliferation of illicit drugs or their means of production.

7. LOS ZETAS (a.k.a. CARTEL DEL NORESTE; a.k.a. “CDN”; a.k.a. “NORTHEAST CARTEL”), Mexico [SDNTK] [TCO] [ILLICIT-DRUGS-E.O.].

Sanctioned pursuant to section 1(a)(i) of the Order for having engaged in, or attempted to engage in, activities or transactions that have materially contributed to, or pose a significant risk of materially contributing to, the international proliferation of illicit drugs or their means of production.

8. SINALOA CARTEL (a.k.a. CARTEL DE SINALOA; f.k.a. “GUADALAJARA CARTEL”; f.k.a. “MEXICAN FEDERATION”), Mexico [SDNTK] [ILLICIT-DRUGS-E.O.].

Sanctioned pursuant to section 1(a)(i) of the Order for having engaged in, or attempted to engage in, activities or transactions that have materially contributed to, or pose a significant risk of materially contributing to, the international proliferation of illicit drugs or their means of production.

Dated: December 15, 2021.
Andrea M. Gacki,
Director, Office of Foreign Assets Control, U.S. Department of the Treasury.

[FR Doc. 2021-27503 Filed 12-20-21; 8:45 am]

BILLING CODE 4810-AL-P